DEPARTMENT OF STATE

[Delegation of Authority No. 488]

Delegation of the Functions and Authorities of Part II of the Maritime SAFE Act

By virtue of the authority vested in the Secretary of State, including Section 1 of the State Department Basic Authorities Act, as amended (22 U.S.C. 2651a), and to the extent authorized by law, I hereby delegate to the Assistant Secretary for Oceans and International Environmental and Scientific Affairs the functions and authorities vested in the Secretary of State by Part II of the Maritime SAFE Act, Public Law 116-92, codified at 16 U.S.C. 8031-8034.

The Secretary, Deputy Secretary, and the Under Secretary for Economic Growth, Energy, and the Environment may at any time exercise any authority or function delegated by this delegation of authority.

The authorities delegated herein may be re-delegated, to the extent authorized by law.

This delegation of authority does not revoke or otherwise affect any other delegation of authority currently in effect. Any act, executive order, regulation, or procedure subject to, or affected by, this delegation shall be deemed to be such act, executive order, regulation, or procedure as amended from time to time.

This document shall be published in the Federal Register.

Dated: August 17, 2020.
Michael R. Pompeo,
Secretary of State.

[FR Doc. 2020-20212 Filed 9-11-20; 8:45 am]

BILLING CODE 4710-09-P